DEPARTMENT OF JUSTICE

Notice of Lodging Proposed Consent Decree

In accordance with Departmental Policy, 28 CFR 50.7, notice is hereby given that a proposed consent decree in the case of United States of America, Plaintiff v. Charles E. Corbett, Jr., Defendant, Civil Action No. 4:03-0166-25 (D.S.C.), was lodged with the United States District Court for the District of South Carolina, Florence Division, on May 2, 2003. This proposed Consent Decree concerns a complaint filed by the United States of America against Charles E. Corbett, Jr., pursuant to sections 301(a) and 309(b) and (d) of the Clean Water Act, 33 U.S.C. 1311(a) and 1319(b) and (d), to obtain injunctive relief from, and impose civil penalties against, the Defendant for unauthorized discharge of dredged or fill material into waters of the United States in connection with the development of a portion of a 4.724 acre site adjacent to Gravelly Gully Circle on Highway 544 near the City of Conway, Horry County, South Carolina.

The proposed Consent Decree prohibits any further discharge of pollutants into waters of the United States and requires the payment of civil penalties in the amount of $5,000.

The Department of Justice will accept written comments relating to this proposed Consent Decree for thirty (30) days from the date of publication of this notice. Please address comments to Joseph P. Griffith, Jr., Assistant United States Attorney, P.O. Box 978, Charleston, South Carolina, 29402 and refer to United States of America v Charles E. Corbett, Jr.

The proposed Consent Decree may be examined at the Clerk's office, United States District Court for the District of South Carolina, Florence Division, 401 W. Evans Street, Florence, South Carolina 29501. In addition, the proposed Consent Decree may be viewed on the World Wide Web at ­ http://www.usdoj.gov/enrd/home.html.

Joseph P. Griffith Jr.,
Assistant United States Attorney, 151 Meeting Street, Ste. 200, P.O. Box 978, Charleston, S.C. 29402, (843) 266-1667 (tel), (843) 727-4443 (fax), joseph.griffith@usdoj.gov.

[FR Doc. 03-12052 Filed 5-14-03; 8:45 am]

BILLING CODE 4419-15-M